DEPARTMENT OF STATE

[Public Notice: 9553]

Notice of Availability of the Final Supplemental Environmental Assessment and Finding of No Significant Impact for the NuStar Dos Laredos Pipeline Presidential Permit Application Review, Webb County, Texas

AGENCY: Department of State.

ACTION: Notice of availability.

SUMMARY: The U.S. Department of State (Department) is issuing this notice to advise the public that on May 05, 2016 the Department approved a Finding of No Significant Impact (FONSI) based on the Final Supplemental Environmental Assessment (SEA) for the NuStar Dos Laredos Pipeline Presidential Permit Application. The Department prepared the Final SEA consistent with the National Environmental Policy Act (NEPA) of 1969 (42 U.S.C. Sec. 4321, et seq.), the regulations of the Council on Environmental Quality (CEQ) (40 CFR parts 1500-1508), and the Department's implementing regulations (22 CFR part 161). The Department has determined the proposed action would not have a significant effect on the environment and therefore, the preparation of an Environmental Impact Statement is not required. The Finding of No Significant Impact is not a decision on the Presidential Permit application. In accordance with E.O. 13337, the Department will now proceed to make a determination as to whether issuance of a Presidential Permit for NuStar Logistics, L.P.'s proposed cross-border pipeline facilities project would serve the national interest. That determination process involves consideration of many factors, including foreign policy; energy security; environmental, cultural, and economic impacts; compliance with applicable law and regulations; and other issues.

DATES: The FONSI and Final SEA are available as of the publication date of this notice.

ADDRESSES: Copies of the FONSI and Final SEA are available at the following:

• Laredo Public Library, 1120 E Calton Rd, Laredo, Texas 78041

• http://www.state.gov/e/enr/applicant/applicants/c61192.htm

Copies of the FONSI and Final SEA may also be requested by email at NuStarDosLaredos@state.gov or by mail from: Dos Laredos Project Manager, Office of Environmental Quality and Transboundary Issues (OES/EQT): Suite 2726, U.S. Department of State, 2201 C Street NW., Washington, DC 20520.

SUPPLEMENTARY INFORMATION: The Department evaluates Presidential permit applications under Executive Order (E.O.) 13337 and E.O. 14432. E.O. 13337 delegates to the Secretary of State the President's authority to receive applications for permits for the construction, connection, operation, or maintenance of facilities for the exportation or importation of petroleum, petroleum products, coal, or other fuels (except for natural gas), at the borders of the United States, and to issue or deny such Presidential Permits upon a national interest determination. The environmental review is used to inform the ultimate decision of whether or not to issue the Presidential Permit.

NuStar applied for a Presidential Permit on December 4, 2013 to amend the 2003 Presidential Permit previously issued to Valero Logistics Operations, L.P. to construct, connect, operate, and maintain transboundary pipeline facilities between the United States and Mexico approximately six miles northwest of downtown Laredo, Texas at a location on the Rio Grande River knows as “La Bota.” NuStar requested a new Presidential Permit that: (1) Reflects NuStar's name change from Valero Logistics Operations, L.P. to NuStar Logistics, L.P., as the owner and operator of the Dos Laredos Pipeline crossing the international boundary; and (2) permits the transportation in either direction across the international border of a broader range of products. The 2003 Presidential Permit only allows shipment of liquefied petroleum gas (LPG). NuStar is seeking to transport other specifically defined petroleum products, including diesel.

As part of its consideration of Nustar's 2013 application, the Department prepared a SEA that supplements the Department's EA prepared in connection with the Valero Logistics Operations, L.P.'s 2003 Presidential Permit application to transport LPG across the United States-Mexico border at Webb County, Texas.

Deborah Klepp,
Director, Office of Environmental Quality and Transboundary Issues, Department of State.

[FR Doc. 2016-11101 Filed 5-10-16; 8:45 am]

BILLING CODE 4710-09-P